DEPARTMENT OF THE INTERIOR

Bureau of Land Management

[BLM_NV_FRN_MO4500182801]

Filing of Plats of Survey; Nevada

AGENCY: Bureau of Land Management, Interior.

ACTION: Notice.

SUMMARY: The purpose of this notice is to inform the public and interested State and local government officials of the filing of Plats of Survey in Nevada.

DATES: Filing is applicable at 10:00 a.m. on the dates indicated below.

FOR FURTHER INFORMATION CONTACT: Clarence D. Strickland, Chief Cadastral Surveyor for Nevada, Bureau of Land Management, Nevada State Office, 1340 Financial Blvd., Reno, NV 89502-7147, phone: 775-861-6490. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION:

1. The Plat of Survey of the following described land was officially filed at the Bureau of Land Management (BLM) Nevada State Office, Reno, Nevada, on September 20, 2023.

The plat, in 1 sheet, representing the dependent resurvey of a portion of the subdivisional lines, Township 22 North, Range 23 East, Mount Diablo Meridian, Nevada, under Group No. 1002, was accepted September 19, 2023. This survey was executed to meet certain administrative needs of the Bureau of Land Management.

2. The Plat of Survey of the following described lands was officially filed at the Bureau of Land Management (BLM) Nevada State Office, Reno, Nevada, on October 31, 2023.

The plat, in 2 sheets, representing the dependent resurvey of a portion of the west boundary and portions of the subdivisional lines, the subdivision of section 6, and metes-and-bounds surveys of the easterly and westerly right-of-way lines of the Nevada Northern Railway Mainline, Hiline, and Branchline, Township 16 North, Range 64 East, Mount Diablo Meridian, Nevada, under Group No. 852, was accepted October 27, 2023. This survey was executed to meet certain administrative needs of the Bureau of Land Management.

3. The Plat of Survey of the following described lands was officially filed at the Bureau of Land Management (BLM) Nevada State Office, Reno, Nevada, on November 02, 2023.

The plat, in 1 sheet, representing the dependent resurvey of a portion of the subdivisional lines, the subdivision of section 13, and metes-and-bounds surveys of the northerly and southerly right-of-way lines of the Nevada Northern Railway Mainline and the easterly and westerly right-of-way lines of the Nevada Northern Railway Branchline, Township 16 North, Range 63 East, Mount Diablo Meridian, Nevada, under Group No. 948, was accepted November 01, 2023. This survey was executed to meet certain administrative needs of the Bureau of Land Management.

4. The Supplemental Plat of the following described lands was officially filed at the Bureau of Land Management (BLM) Nevada State Office, Reno, Nevada, on December 18, 2023.

The plat, in 1 sheet, showing amended lottings in section 16, Township 20 North, Range 25 East, Mount Diablo Meridian, Nevada, under Group No. 1009, was accepted December 14, 2023. This survey was executed to meet certain administrative needs of the Bureau of Land Management.

5. The Plat of Survey of the following described lands was officially filed at the Bureau of Land Management (BLM) Nevada State Office, Reno, Nevada, on January 23, 2024.

The plat, in 3 sheets, representing the dependent resurvey of portions of the south and east boundaries, Township 13 South, Range 47 East, and the survey of the subdivisional lines, Township 14 South, Range 47 East, Mount Diablo Meridian, Nevada, under Group No. 999, was accepted January 4, 2024. This survey was executed to meet certain administrative needs of the Bureau of Land Management.

6. The Plat of Survey of the following described lands was officially filed at the Bureau of Land Management (BLM) Nevada State Office, Reno, Nevada, on January 23, 2024.

The plat, in 1 sheet, representing the survey of the South and West boundaries and a portion of the subdivisional lines, Township 15 South, Range 47 East, Mount Diablo Meridian, Nevada, under Group No. 999, was accepted January 4, 2024. This survey was executed to meet certain administrative needs of the Bureau of Land Management.

7. The Supplemental Plat of the following described lands was officially filed at the Bureau of Land Management (BLM) Nevada State Office, Reno, Nevada, on July 30, 2024.

The plat, in 1 sheet, showing the subdivision of former lots 5 and 6, section 19, Township 19 South, Range 62 East, Mount Diablo Meridian, Nevada, under Group No. 1015, was accepted July 18, 2024. This survey was executed to meet certain administrative needs of the Bureau of Land Management.

8. The Plat of Survey of the following described lands was officially filed at the Bureau of Land Management (BLM) Nevada State Office, Reno, Nevada, on August 13, 2024.

The plat, in 1 sheet, representing the dependent resurvey of a portion of the subdivisional lines, Township 2 South, Range 68 East, Mount Diablo Meridian, Nevada, under Group No. 1004, was accepted August 9, 2024. This survey was executed to meet certain administrative needs of the Bureau of Land Management.

The surveys and supplemental plats, listed above, are now the basic record for describing the lands for all authorized purposes. These records have been placed in the open files in the BLM Nevada State Office and are available to the public as a matter of information.

Dated: September 12, 2024.
Clarence Strickland,
Chief Cadastral Surveyor for Nevada.

[FR Doc. 2024-21215 Filed 9-17-24; 8:45 am]

BILLING CODE 4331-21-P